DEPARTMENT OF HOMELAND SECURITY

Coast Guard

DEPARTMENT OF TRANSPORTATION

Maritime Administration

[USCG-2004-16877]

Cabrillo Port Liquefied Natural Gas Deepwater Port License Application; Draft Environmental Impact Statement

AGENCY: United States Coast Guard, DHS; and Maritime Administration, DOT.

ACTION: Notice of availability; notice of public meetings; and request for public comments.

SUMMARY: The Coast Guard and the Maritime Administration (MARAD) announce the availability of the joint draft environmental impact statement/environmental impact report (DEIS/DEIR) for Cabrillo Port Deepwater Port (DWP) License Application. The proposed Cabrillo Port liquefied natural gas (LNG) DWP would be located offshore of Ventura County, California. Since the applicant has also filed a California State Lands Commission (CSLC) land lease application for subsea pipelines through California State waters to deliver natural gas to shore, the DEIS/DEIR was prepared in accordance with a Memorandum of Agreement with the CSLC. The DEIS/DEIR will meet requirements consistent with the Deepwater Port Act (DWPA) of 1974, as amended (33 U.S.C. 1501 et seq.); the National Environmental Policy Act (NEPA Section 102[2][c]), as implemented by Council on Environmental Quality regulations (40 Code of Federal Regulations 1500 to 1508); Coast Guard policy (Commandant's Instruction M1675.1D); and the California Environmental Quality Act (CEQA) (California Public Resources Code Section 21000 et seq.) as implemented by the State CEQA Guidelines (14 California Code of Regulations Section 15000 et seq.). The Coast Guard and the MARAD solicit public input on this DEIS/DEIR.

DATES: The DEIS/DEIR will be available on October 29, 2004. Comments or related materials on the DEIS/DEIR must reach the Coast Guard on or before December 20, 2004 at 5 p.m. Eastern Standard Time. Public meeting dates are November 29, 2004 (Santa Clarita, CA), November 30, 2004 (Oxnard, CA) and December 1, 2004 (Malibu, CA).

ADDRESSES: The Coast Guard, MARAD and CSLC will conduct an open house, followed by a public meeting, to receive oral or written testimony at the following times and places:

Monday, November 29, 2004; The Century Room (Open House) and City Council Chambers (Public Meeting), 23920 Valencia Blvd., Santa Clarita, CA 91355.

Open House: 4:30 p.m. to 6:30 p.m.

Public Meeting: 7 p.m. to 9 p.m.

Tuesday, November 30, 2004; Oxnard Performing Arts Center, 800 Hobson Way, Oxnard, CA 93030.

Open House: 10:30 a.m. to 12 noon and 4 p.m. to 6 p.m.

Public Meetings: 1 p.m. to 2:30 p.m. (this meeting may be extended until 4 p.m. if necessary to take all public comments) and 6:30 p.m. to 9:30 p.m.

Wednesday, December 1, 2004; Webster Elementary School Cafetorium, Santa Monica-Malibu Unified School District, 3602 Winter Canyon, Malibu, CA 90265.

Open House: 4:30 p.m. to 6 p.m.

Public Meeting: 7 p.m. to 9:30 p.m.

All public meeting spaces will be wheelchair-accessible. Individuals may request special accommodations for the public meetings, such as real time Spanish translation and/or for the hearing impaired. Contact Cy Oggins, CSLC, at (916) 574-1884 or (ogginsc@slc.ca.gov) if special accommodations are required. Requests should be made as soon as possible but at least three (3) business days before the scheduled meeting. Include the name and telephone number of the contact person, the timelines for requesting accommodations, and a TDD number that can be used by individuals with hearing impairments.

It is not necessary to present comments at more than one meeting. One need not attend a meeting in order to comment. Comments may also be sent using only one of the following methods (identify the subject of the comment by using the docket number, USCG-2004-16877):

(1) Electronically through the Web site for the Docket Management System, at http://dms.dot.gov.

(2) By mail to the Docket Management Facility, U.S. Department of Transportation, Room PL-401, 400 Seventh Street SW., Washington, DC 20590-0001.

(3) By fax to the Docket Management Facility at (202) 493-2251.

(4) By delivery to Room PL-401 on the Plaza level of the Nassif Building, 400 Seventh Street SW., Washington, DC, from 9 a.m. to 5 p.m., Monday through Friday, except Federal holidays. The telephone number is (202) 366-9329.

(5) In addition to the Federal Docket Management system, comments may be made to the California State Clearinghouse by either mail or e-mail to Cy Oggins, California State Lands Commission, 100 Howe Avenue, Suite 100-South, Sacramento, CA 95825; (ogginsc@slc.ca.gov) or electronically through the project Web site at http://www.cabrilloport.ene.com. Include the State Clearinghouse number: 2004021107 and docket number: USCG-2004-16877. However, if one of these CSLC comment submittal methods is used, the comment will also be entered in the Federal Docket Management Facility.

Viewing Comments and Documents

To view comments, the DEIS/DEIR or other materials related to this license application, go to http://dms.dot.gov at any time and conduct a simple search using the following docket number: USCG-2004-16877. The Docket Management Facility maintains the Federal public docket for this project. Comments and material received from the public will become part of this docket and will be available for inspection or copying in Room PL-401 on the Plaza level of the Nassif Building, 400 Seventh Street SW., Washington, DC, from 9 a.m. to 5 p.m. Monday through Friday, except Federal holidays.

Privacy Act

Anyone can search the electronic form of all comments received into any of our dockets by the name of the individual submitting the comment (or signing the comment, if submitted on behalf of an association, business, labor union, etc.). You may review the Department of Transportation's Privacy Act Statement in the Federal Register (FR) published on April 11, 2000 (65 FR 19477), or you may visit http://dms.dot.gov.

FOR FURTHER INFORMATION CONTACT: Information pertaining to the proposed Cabrillo Port Project is available online at http://dms.dot.gov, http://www.slc.ca.gov, or http://www.cabrilloport.ene.com. Questions regarding the proposed Project, the license application process, or the DEIS/DEIR process may be directed to Mark Prescott, Coast Guard, (202) 267-0225 (mprescott@comdt.uscg.mil), Keith Lesnick, MARAD, (202) 366-1624 (Keith.Lesnick@marad.dot.gov) or Cy Oggins, CSLC, (916) 574-1884 (ogginsc@slc.ca.gov). Questions regarding viewing or submitting materials to the docket may be directed to Andrea M. Jenkins, Program Manager, Docket Operations, (202) 366-0271.

This public notice may be requested in an alternative format, such as Spanish translation, audiotape, large print, or Braille. Contact Cy Oggins, CSLC, (916) 574-1884 (ogginsc@slc.ca.gov), or visit http://www.cabrilloport.ene.com.

SUPPLEMENTARY INFORMATION:

Public Meetings and Request for Comments

As discussed under ADDRESSES, the Coast Guard, MARAD and CSLC plan to conduct public meetings related to comments on the DEIS/DEIR for the proposed project. The open houses will be informal opportunities to ask questions and receive information regarding the project. The public meetings will be structured to provide interested members of the public with an opportunity to present comments regarding the DEIS/DEIR. Speakers at the public meetings will be recognized in the following order: elected officials, public agencies, individuals or groups in the sign-up order, and anyone else who wishes to speak. Speakers may be asked to limit their oral comments to three (3) minutes in order to afford everyone an opportunity to speak. Written comments will also be accepted. The Coast Guard, MARAD and CSLC also encourage submittal of comments and related material regarding this notice using one of the methods described under ADDRESSES. During the public meeting, speakers or the audience will not be authorized to set up any multimedia equipment (audio/video and/or projectors) or displays that would disrupt testimony of others.

Background Information

A notice of application for the proposed Cabrillo Port DWP was published in the Federal Register on January 27, 2004 (69 FR 3934). Consult that notice for additional information regarding the proposed DWP, pipelines and the moorings that would be installed on the floor of the Pacific Ocean offshore of Ventura County, California.

A notice of intent to prepare the joint DEIS/DEIR was published in the Federal Register on February 27, 2004 (69 FR 9344). Consult that notice for additional information regarding the criteria that was utilized for the environmental analysis in the joint DEIS/DEIR.

Proposed Action

The Applicant proposes to construct and operate an offshore floating storage and regasification unit (FSRU) that would be moored in Federal waters approximately 12.2 nautical miles (14 statute miles or 22.4 kilometers) offshore of Ventura County in 2,900 feet (884 meters) of water. As proposed, LNG from the Pacific basin would be delivered by an LNG carrier to and offloaded onto, the FSRU; re-gasified; and delivered onshore via two new 21.1 mile (33.8-kilometer), 24 inch (0.6 meters) diameter natural gas pipelines laid on the ocean floor. These pipelines would come onshore at Ormond Beach near Oxnard, California to connect with the existing Southern California Gas Company intrastate pipeline system to distribute natural gas throughout the Southern California region. The facilities would be designed to deliver a peak of up to 0.8 billion cubic feet per day (bcfd) (22.7 million cubic meters).

The FSRU would store LNG in three Moss spherical tanks. Each tank would have a 24 million gallon (91,000 cubic meter) LNG storage capacity, and the total FSRU LNG storage capacity would be 72.1 million gallons (273,000 cubic meters). The FSRU would be permanently moored, and would use a turret system (a tower-like revolving structure) to allow the FSRU to weathervane (rotate) around a fixed point. The FSRU, which would be designed for loading LNG from a side-by-side, moored LNG tanker, would be shaped like another vessel, double-sided, double-bottomed, 938 feet (286 meters) long and 213 feet (65 meters) wide, with a displacement of approximately 190,000 deadweight tons.

Alternatives

The DEIS/DEIR examines and assesses the environmental impact of the project location and pipeline routes of the preferred, alternative and the no action alternative. In addition to the environmental impacts, the DEIS/DEIR considers approving, approving with conditions or not approving (no action alternative) the license application and operation.

As required by the National Environmental Policy Act, the Coast Guard will also analyze the no action alternative as a baseline for comparing the impacts of the proposed project. For the purposes of this project, the no action alternative is defined as not approving the Cabrillo Port DWP License Application.

Dated: October 28, 2004.
Howard L. Hime,
Acting Director of Standards , Marine Safety, Security and Environmental Protection, U.S. Coast Guard.
Richard Lolich,
Acting Director, Office of Ports and Domestic Shipping, U.S. Maritime Administration.

[FR Doc. 04-24641 Filed 11-4-04; 8:45 am]

BILLING CODE 4910-15-P